FEDERAL ELECTION COMMISSION

Sunshine Act Notices

PREVIOUSLY ANNOUNCED DATE AND TIME: Thursday, October 6, 2005, 2 p.m. meeting open to the public. This meeting has been cancelled.

* * * * *

PERSON TO CONTACT FOR INFORMATION: Mr. Robert Biersack, Press Officer, Telephone: (202) 694-1220.

Mary W. Dove,
Secretary of the Commission.

[FR Doc. 05-20295 Filed 10-4-05; 3:11 pm]

BILLING CODE 6715-01-M